DEPARTMENT OF COMMERCE

National Oceanic and Atmospheric Administration

RIN 0648-XE806

Endangered and Threatened Species; Take of Anadromous Fish

AGENCY: National Marine Fisheries Service (NMFS), National Oceanic and Atmospheric Administration (NOAA), Commerce.

ACTION: Notice of receipt.

SUMMARY: Notice is hereby given that NMFS has received one permit application from the United States Fish and Wildlife Service (USFWS) to enhance the propagation and survival of species listed under the Endangered Species Act (ESA) of 1973, as amended, for a 10 year period. As part of this permit application, USFWS has submitted two HGMPs. The HGMPs specify methods for the operation of two hatchery programs at Livingston Stone National Fish Hatchery (LSNFH); the Winter Chinook Integrated-Recovery Supplementation Program, and the Winter Chinook Captive Broodstock Program. LSNFH is located on the Upper Sacramento River in California's Central Valley. This document serves to notify the public of the availability of the permit application and associated HGMPs for review and comment, prior to a decision by NMFS whether to issue the permit. The permit application and associated HGMPs may be viewed online at: https://apps.nmfs.noaa.gov/preview/preview_open_for_comment.cfm.

DATES: Comments or requests for a public hearing on the applications must be received at the appropriate address or fax number (see ADDRESSES) no later than 5 p.m. Pacific standard time on September 21, 2016.

ADDRESSES: Written comments on the application should be submitted to the California Central Valley Office, NMFS, 650 Capitol Mall, Suite 5-100, Sacramento, CA 95814. Comments may also be submitted via fax to 916-930-3629 or by email to Amanda.Cranford@noaa.gov (include the permit number in the subject line of the fax or email).

FOR FURTHER INFORMATION CONTACT: Amanda Cranford, Sacramento, CA (ph.: 916-930-3706), Fax: 916-930-3629, email: Amanda.Cranford@noaa.gov). Permit application instructions are available from the address above, or online at https://apps.nmfs.noaa.gov.

SUPPLEMENTARY INFORMATION:

Species Covered in This Notice

The following listed species are covered in this notice:

Chinook salmon (Oncorhynchus tshawytscha): Threatened Central Valley spring-run (CVSR); endangered Sacramento River winter-run (SRWR).

Steelhead (O. mykiss): Threatened California Central Valley (CCV).

Authority

Scientific research permits are issued in accordance with section 10(a)(1)(A) of the ESA (16 U.S.C. 1531 et seq.) and regulations governing listed fish and wildlife permits (50 CFR parts 222-227). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Permit Application(s) Received

Permit 16477

The USFWS has applied for a permit under section 10(a)(1)(A) of the ESA for a period of 10 years that would allow take of adult and juvenile SRWR Chinook salmon, from the endangered Sacramento River Evolutionarily Significant Unit pursuant to HGMPs, which were developed with technical assistance from NMFS. Take of adult CVSR Chinook salmon and adult CCV steelhead may also occur as a result of hatchery activities at LSNFH. The HGMPs will be implemented as part of the existing Integrated-Recovery Supplementation Program and Captive Broodstock Program at LSNFH. Actions taken pursuant to the permit are designed to enhance the survival of SRWR Chinook salmon residing in the Upper Sacramento River below Keswick Dam. The HGMPs incorporate two main components: Artificial propagation activities and research, monitoring and evaluation (RM&E).

Artificial propagation activities that could lead to the take of ESA-listed salmonids include; adult broodstock collection, spawning, rearing, handling, evaluation, tagging and release of progeny. Additionally, USFWS will maintain a Captive Broodstock Program at LSNFH sourced from fish originating from the Integrated-Recovery Supplementation Program. Release of captive broodstock will not be authorized under Permit 16477. Release of these fish will be permitted through separate section 10(a)(1)(A) Permits or authorizations, as needed. The HGMPs include measures to minimize the likelihood of genetic or ecological effects to naturally produced, ESA-listed salmonids resulting from hatchery operations and propagation of SRWR Chinook salmon.

RM&E activities will collect necessary data to document achievement of performance indicators specified in the HGMPs. USFWS is currently involved with the following research and monitoring projects directly involved with evaluating the effects of the hatchery programs at LSNFH: (1) The Adult Acoustic Telemetry Study to monitor the movements of adult winter-run Chinook salmon that are captured at the Keswick Dam Fish Trap and not retained for broodstock; and (2) the Juvenile Acoustic Tracking Study using acoustic tags to study emigration patterns and survival of juvenile hatchery-origin winter-run Chinook salmon. For a more detailed discussion of the RM&E activities, please see the permit application package.

Public Comments Solicited

NMFS invites the public to comment on the permit application and associated HGMPs during a 30 day public comment period beginning on the date of this notice. This notice is provided pursuant to section 10(c) of the ESA (16 U.S.C. 1529(c)). All comments and materials received, including names and addresses, will become part of the administrative record and may be released to the public. We provide this notice in order to allow the public, agencies, or other organizations to review and comment on these documents.

Next Steps

NMFS will evaluate the applications, associated documents, and comments submitted to determine whether the applications meet the requirements of section 10(a)(1)(A) of the ESA and Federal regulations. The final permit decisions will not be made until after the end of the 30-day public comment period and after NMFS has fully considered all relevant comments received. NMFS will publish notice of its final action in the Federal Register.

Dated: August 15, 2016.
Donna S. Wieting,
Director, Office of Protected Resources, National Marine Fisheries Service.

[FR Doc. 2016-19890 Filed 8-19-16; 8:45 am]

BILLING CODE 3510-22-P